Proclamation 10854 of October 31, 2024

National Veterans and Military Families Month, 2024

By the President of the United States of America

A Proclamation

Each veteran and military family represents a link in a chain of honor that stretches back to our founding days, unwavering in their devotion to their loved ones who served in uniform. This month, we honor all of our military and veteran families. They too serve and sacrifice to answer our Nation's call to duty. We owe them a debt of gratitude we can never fully repay.

I often say that, as a Nation, we have many obligations, but only one is truly sacred: to prepare and equip those we send into harm's way and to care for them and their families when they come home.

We are continually working to make sure that our Nation's veterans and service members have access to the benefits and care they deserve. I have signed more than 34 bipartisan bills to better support our service members, veterans and their families, caregivers, and survivors. One of those bills, the Sergeant First Class Heath Robinson Honoring our Promise to Address Comprehensive Toxics (PACT) Act, was the most significant expansion of benefits and services for toxic-exposed veterans and survivors in nearly 30 years. To date, more than 1.1 million veterans and over 11,000 survivors are now receiving new service-connected disability benefits, and over 796,000 veterans have newly enrolled in Veterans Affairs health care since the law was enacted. This law is helping families who lost loved ones to toxic illness gain access to critical resources and services, including monthly benefits, educational assistance, home loans, and more. Actions outlined in our national strategy to prevent military and veteran suicide are tackling the root causes of the military and veteran suicide crisis, including by better supporting families through the Governor's Challenge to Prevent Suicide Among Service Members, Veterans, and their Families. And we are making progress in eliminating homelessness and improving financial security for veteran and military families. Too often, veteran and military families become the targets of bad actors and scam artists. My Administration's Veteran Service Member Family Fraud Evasion initiative is providing easy, one stop access to resources to report fraud and get help from the Federal Government to combat scams. Additionally, I signed an Executive Order that implemented historic, bipartisan military justice reforms to transform how the military handles sexual assault and domestic violence cases. And I directed the Department of Defense to review pay and benefits for our service members—an important step toward ensuring their compensation reflects their service and sacrifice.

Military-connected families sacrifice for our country, answering the call to duty over and over again. Many military and veteran spouses, caregivers, and survivors struggle to achieve their desired career goals due to unique challenges military-connected families face. This is why I signed an Executive Order that takes the most comprehensive set of administrative actions in history to support the economic security of military families and veterans' spouses, caregivers, and survivors. I encouraged Federal agencies to do more to retain military spouses through flexible policies, ensuring they have access to stable jobs throughout their careers. Last year, I signed an Executive Order that directed more than 50 actions to improve the care economy, which included critical actions to better support military and veteran caregivers and expand access to military child care. These orders build on the efforts taken by my Administration to improve the quality of life for military families, including initiatives to ease military moves, afford housing, and find child care. Joining Forces, the First Lady's initiative, is working to better support military and veteran families—doing everything from making school transitions easier for military children to expanding economic opportunities for military spouses and caregivers.

This is personal for my family and for me. We know the pride of seeing your child wear the uniform of the United States. We know the pain of long deployments far from home. We know what it is like to pray for the safe return of someone you love. This month, may we show our immense gratitude for our military and veteran families, whose courage and dedication represent the best of who we are as a Nation.

NOW, THEREFORE, I, JOSEPH R. BIDEN JR., President of the United States of America, by virtue of the authority vested in me by the Constitution and the laws of the United States, do hereby proclaim November 2024 as National Veterans and Military Families Month. I call upon the people of the United States to honor veterans and military families with appropriate ceremonies and activities.

IN WITNESS WHEREOF, I have hereunto set my hand this thirty-first day of October, in the year of our Lord two thousand twenty-four, and of the Independence of the United States of America the two hundred and forty-ninth.

[FR Doc. 2024-25811

Filed 11-4-24; 8:45 am]

Billing code 3395-F4-P